DEPARTMENT OF AGRICULTURE

Foreign Agricultural Service

Agricultural Policy Advisory Committee for Trade and the Agricultural Technical Advisory Committees for Trade; Reestablishment, Establishment, and Nominations

Correction

In notice document 03-6794 beginning on page 13665 in the issue of Thursday, March 20, 2003, make the following correction:

On page 13665, in the first column, under FOR FURTHER INFORMATION CONTACT, in the ninth line, “7829” should read, “6829”.

[FR Doc. C3-6794 Filed 3-24-03; 8:45 am]

BILLING CODE 1505-01-D

FEDERAL RESERVE SYSTEM

12 CFR Part 202

[Regulation B; Docket No. R-1008]

Equal Credit Opportunity

Correction

In rule document 03-5666 beginning on page 13144 in the issue of Tuesday, March 18, 2003 make the following correction:

PART 202—[CORRECTED]

On page 13184, in appendix C to part 202, in the first column, the heading Notification Forms is corrected to read as follows:

Appendix C to Part 202—Sample Notification Forms

[FR Doc. C3-5666 Filed 3-24-03; 8:45 am]

BILLING CODE 1505-01-D

DEPARTMENT OF THE TREASURY

Customs Service

19 CFR Parts 4, 113, and 178

[T.D. 03-14]

RIN 1515-AC58

Deferral of Duty on Large Yachts Imported for Sale

Correction

In rule document 03-6759 beginning on page 13623 in the issue of Thursday, March 20, 2003, make the following corrections:

1. On page 13624, in the third column, in the first full paragraph, in the sixth line from the bottom, “and” should read, ““and”.

2. On the same page, in the same column, in the same paragraph, in the second line from the bottom, “section” should read, “section””.

[FR Doc. C3-6759 Filed 3-24-03; 8:45 am]

BILLING CODE 1505-01-D